DEPARTMENT OF EDUCATION

[Docket ID ED-2021-IES-0046]

Privacy Act of 1974; System of Records—National Center for Education Statistics (NCES) Longitudinal, Cross-Sectional, and International Studies

AGENCY: National Center for Education Statistics, Institute of Education Sciences, Department of Education.

ACTION: Notice of a modified system of records.

SUMMARY: In accordance with the Privacy Act of 1974, as amended (Privacy Act), the U.S. Department of Education (Department) publishes this notice of a modified system of records entitled “National Center for Education Statistics (NCES) Longitudinal, Cross-sectional, and International Studies,” formerly known as “National Center for Education Statistics (NCES) Longitudinal and Cross-sectional Studies,” (18-13-01). This system is used to fulfill NCES's legislative mandate to collect, report, analyze, and disseminate statistical data on the condition and progress of education in the United States and other nations at the early childhood, preschool, elementary, secondary, postsecondary, and adult levels, including data on the critical influences, contexts, and transitions of: students in elementary, secondary, postsecondary, and graduate education, and into employment and adult experiences; children at early childhood stage; homeschooled students; the general adult population; and participants in career training.

DATES: The Department seeks comment on the modified system of records described in this notice in accordance with the requirements of the Privacy Act. We must receive your comments on or before February 17, 2023.

This modified system of records will become applicable upon publication in the Federal Register on January 18, 2023, with the exception of the modified routine uses outlined in the section entitled “ROUTINE USES OF RECORDS MAINTAINED IN THE SYSTEM, INCLUDING CATEGORIES OF USERS AND PURPOSES OF SUCH USES,” unless the modified system of records notice needs to be changed as a result of public comment. Modified routine uses (1) and (2) in the section entitled “ROUTINE USES OF RECORDS MAINTAINED IN THE SYSTEM, INCLUDING CATEGORIES OF USERS AND PURPOSES OF SUCH USES” will become applicable upon the expiration of the 30-day period of public comment on February 17, 2023, unless any of the modified routine uses in the system of records notice need to be changed as a result of public comment. The Department will publish any significant changes to the modified system of records notice resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this modified system of records, address them to: Commissioner, National Center for Education Statistics, Institute of Education Sciences, U.S. Department of Education, Potomac Center Plaza (PCP), 550 12th Street SW, 4th floor, Washington, DC 20202-4160.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Carrie Clarady, National Center for Education Statistics, Institute of Education Sciences, U.S. Department of Education, PCP, 550 12th Street SW, 4th floor, Washington, DC 20202-4160. Telephone: (202) 245-6347. Email: NCES.Information.Collections@ed.gov.

If you use a telecommunications device for the deaf (TDD) or text telephone (TTY), you may call the Federal Relay Service (FRS) toll free at 1-800-877-8339.

SUPPLEMENTARY INFORMATION: This system of records is used to fulfill NCES's legislative mandate set forth at 20 U.S.C. 9543(a) to collect, report, analyze, and disseminate statistical data on the condition and progress of education in the United States and other nations at the early childhood, preschool, elementary, secondary, postsecondary, and adult levels. NCES must collect, analyze, and report on such data in a manner that is objective, secular, neutral, and non-ideological; free of political influence and bias; and relevant and useful to practitioners, researchers, policymakers, and the public. 20 U.S.C. 9541(b).

The Department published the “National Center for Education Statistics (NCES) Longitudinal and Cross-sectional Studies” (18-13-01) system of records notice in the Federal Register on November 14, 2018 (83 FR 56831). The Department is modifying this system of records notice as follows:

(a) The Department is modifying the section entitled “SYSTEM NAME AND NUMBER” to “National Center for Education Statistics (NCES) Longitudinal, Cross-sectional, and International Studies (18-13-01)” in order to include reference to the international studies covered by the system and thereby provide greater clarity to the public that this system of records notice covers these studies;

(b) The Department is modifying the section entitled “SYSTEM LOCATION” to update additional system locations, as set forth in the Appendix;

(c) The Department is modifying the section entitled “CATEGORIES OF INDIVIDUALS COVERED BY THE SYSTEM” to include a new example study reference in the national quick response studies paragraph;

(d) The Department is modifying the section entitled “RECORD SOURCE CATEGORIES” to indicate that information in this system of records may be obtained from other persons or entities from which information is obtained under a routine use;

(e) The Department is modifying the section entitled “ROUTINE USES OF RECORDS MAINTAINED IN THE SYSTEM, INCLUDING CATEGORIES OF USERS AND PURPOSES OF SUCH USES” to modify routine use (1), currently entitled “Contract Disclosure,” both to permit the disclosure of records from the system to another government agency or its contractor, or both, pursuant to interagency agreements for the collection of statistics, consistent with 20 U.S.C. 9544(b)(3)(A), and to change the name of the routine use to “Contract or Interagency Agreement Disclosure;” routine use (2), entitled “Research Disclosure,” both to, in certain circumstances, permit the disclosure of directly personally identifiable respondent information from the system to researchers and to add that researchers who obtain data under this routine use will be required as part of a restricted-use data licensing agreement to agree, among other items listed in this routine use, to the submission of their work products to NCES for disclosure review prior to sharing the work products with anyone not named in the restricted-use data licensing agreement; and, both routine uses (1) and (2) to replace references to the Commissioner of Education Statistics with NCES;

(f) The Department is modifying the section entitled “POLICIES AND PRACTICES FOR STORAGE OF RECORDS” to explain that researchers who access records from the system are required to execute Institute of Education Sciences Restricted-Use Data Security Plans and follow the data access, storage, and security protocols set forth therein; and

(g) The Department is modifying the section entitled “ADMINISTRATIVE, TECHNICAL, AND PHYSICAL SAFEGUARDS” both to clarify that each contractor and subcontractor who accesses records from the system must have received Department approval to hold Public Trust positions and to explain how researchers with access to records from the system are required to secure the records.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Mark Schneider,
Director, Institute of Education Sciences.

For the reasons discussed in the preamble, the National Center for Education Statistics, Institute of Education Sciences, U.S. Department of Education, publishes a notice of a modified system of records to read as follows:

SYSTEM NAME AND NUMBER:

National Center for Education Statistics (NCES) Longitudinal, Cross-sectional, and International Studies (18-13-01).

SECURITY CLASSIFICATION:

Unclassified.

SYSTEM LOCATION:

National Center for Education Statistics (NCES), Institute of Education Sciences (IES), U.S. Department of Education (Department or ED), Potomac Center Plaza (PCP), 550 12th Street SW, 4th floor, Washington, DC 20202-4160. See the Appendix at the end of this system notice for additional system locations.

SYSTEM MANAGER(S):

Commissioner, National Center for Education Statistics, Institute of Education Sciences, U.S. Department of Education, PCP, 550 12th Street SW, 4th floor, Washington, DC 20202.

AUTHORITY FOR MAINTENANCE OF THE SYSTEM:

The data collections being administered and their maintenance are authorized under the Education Sciences Reform Act of 2002 (ESRA) (20 U.S.C. 9541-9547 and 9571-9576).

PURPOSE(S) OF THE SYSTEM:

This system is used to fulfill NCES's legislative mandate to collect, report, analyze, and disseminate statistical data on the condition and progress of education in the United States and other nations at the early childhood, preschool, elementary, secondary, postsecondary, and adult levels. NCES must collect, analyze, and report on such data in a manner that is objective, secular, neutral, and non-ideological; free of political influence and bias; and relevant and useful to practitioners, researchers, policymakers, and the public.

CATEGORIES OF INDIVIDUALS COVERED BY THE SYSTEM:

This system maintains records about individuals randomly selected from their respective populations of particular subgroups of children and adults (pre-Kindergarten children, Kindergarten through graduate school students, parents or legal guardians, teachers, administrators, service providers, and general population adults) who voluntarily agree to participate (with implicit or explicit parental or legal guardian consent to participate for minors, depending on school or school district requirements and on the Department's Protection of Human Subjects regulations (34 CFR part 97)) in one of the NCES studies categorized below (with example studies provided for each category):

1. National household studies [e.g., National Household Education Survey (NHES) including the current Early Childhood Education/Program Participation (ECPP) and Parent and Family Involvement in Education (PFI), and with past PFI-Enrolled and PFI-Homeschooled modules, the Adult Training and Education Survey (ATES) studies, and the past Adult Education (AE), Adult Education for Work-Related Reasons (AEWR), Adult Education and Lifelong Learning (AELL), Before- and After-School Programs and Activities (ASPA), School Readiness (SR), Civic Engagement (CE), School Safety and Discipline (SS&D), and Household and Library Use (HHL)];

2. National and international K-12 school and staff studies [e.g., Schools and Staffing Survey (SASS) and its follow-ups Teacher Follow-Up Survey (TFS), Principal Follow-Up Survey (PFS), and Beginning Teacher Longitudinal Study (BTLS); redesigned SASS—National Teacher and Principal Surveys (NTPS); and studies not related to SASS, such as Teacher Compensation Survey (TCS), Teacher Pilot Study (TPS), School Survey of Crime and Safety (SSOCS), Teaching and Learning International Survey (TALIS) and its associated Video Studies, and ED School Climate Surveys (EDSCLS)];

3. National early childhood longitudinal studies [e.g., Early Childhood Longitudinal Study, Birth Cohort (ECLS-B); and Early Childhood Longitudinal Study, Kindergarten Class studies (ECLS-K)];

4. International K-12 assessments studies [e.g., International Early Learning Study (IELS); Progress in International Reading Literacy Study (PIRLS); Civic Education Study (CivEd); Program for International Student Assessment (PISA); Program for International Student Assessment (PISA) Young Adult Follow-up (YAF) Study; Trends in International Mathematics and Science Study (TIMSS) and its associated Video Studies; and International Computer and Information Literacy Study (ICILS)];

5. National middle grades longitudinal studies [e.g., Middle Grades Longitudinal Study (MGLS)];

6. National high school longitudinal studies [e.g., National Longitudinal Study of the High School Class of 1972 (NLS); National Education Longitudinal Study of 1988 (NELS); Education Longitudinal Study of 2002 (ELS); High School Longitudinal Study of 2009 (HSLS); and High School and Beyond Longitudinal studies (HS&B)];

7. National postsecondary studies [e.g., Recent College Graduates (RCG); National Postsecondary Student Aid Study (NPSAS) and its follow-ups Beginning Postsecondary Students Longitudinal Study (BPS) and Baccalaureate and Beyond Longitudinal Study (B&B); National Postsecondary Student Aid Study, Administrative Collection (NPSAS-AC); National Postsecondary Education Cooperative—Sample Surveys (NPEC-S); National Study of Postsecondary Faculty (NSOPF); and National Center for Education Research NCER-NPSAS Grant Studies];

8. National and international adult assessment studies [e.g., International Adult Literacy Survey (IALS); Adult Literacy and Lifeskills Survey (ALL); National Assessment of Adult Literacy (NAAL); and Program for the International Assessment of Adult Competencies (PIAAC)];

9. National quick response studies [e.g., the School Pulse Panel study and the Quick Response Information System (QRIS) made up of pre-postsecondary Fast Response Survey System (FRSS) and Postsecondary Education Quick Information System (PEQIS)]; and

10. NCES national and international developmental studies [e.g., cognitive interviews, focus groups, feasibility studies, usability tests, pilot tests, web tests, etc., utilized to develop new or to improve current data collection methodologies and instruments for particular existing or multiple current and future data collection programs].

CATEGORIES OF RECORDS IN THE SYSTEM:

This system consists of responses from students, their parents or legal guardians, teachers, administrators, service providers, and other adults to data collection instruments including information such as background and demographic data, functional measures (reports of children's functioning in cognitive, social, emotional, and physical domains), family characteristics, education and/or employment experiences, finances, aspirations, plans, and attitudes. Cognitive assessment scores, administrative and financial aid records, and high school and college transcripts are also appended to the records. The appended administrative records contain data such as attendance, program participation, and other information.

The records for service providers, schools/institutions, and local educational agencies contain information on numbers and characteristics of students, teaching staff, and administrators; data on facilities, programs, services, and finances; and information related to student enrollment, persistence, completion, and performance. The records related to teachers and administrators contain, in addition to the above, data on certifications, training, experience, staff evaluations, salary, benefits, and attitudes and opinions related to various aspects of education and operations.

RECORD SOURCE CATEGORIES:

Information in the records comes from responses to survey and assessment instruments and from administrative records maintained by K-12 schools and school districts, postsecondary institutions, the Department, and third-parties, including State and Federal agencies, as well as vendors, such as the National Student Clearinghouse. Information in this system also may be obtained from other persons or entities from which data is obtained under routine uses set forth below.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purpose for which the record was collected. Any disclosure of individually identifiable information from a record in this system must also comply with the requirements of Section 183 of the ESRA (20 U.S.C. 9573) and its confidentiality standards that apply to all collection, reporting, and publication of data by NCES. Any disclosure of personally identifiable information (PII) from students' education records that was obtained from schools, school districts, postsecondary institutions, and other covered sources must also comply with the requirements of the Individuals with Disabilities Education Act (IDEA) (20 U.S.C. 1417(c); 34 CFR 300.610-300.611, 300.613-300.623, and 300.625-300.627) and the Family Educational Rights and Privacy Act (20 U.S.C. 1232g; 34 CFR part 99), which protect the privacy of student education records and the PII contained therein.

(1) Contract or Interagency Agreement Disclosure. When NCES contracts with a private firm, or enters into an agreement with another government agency or its contractor or both, for the purpose of collecting, collating, analyzing, aggregating, maintaining, appending, or otherwise refining records in this system, NCES may release relevant records to the NCES contractor or to the other government agency or its contractor, consistent with NCES's authority for the for the collection of statistics at 20 U.S.C. 9544(b)(3)(A). The NCES contractor or other government agency or its contractor must agree to safeguards to protect the security and confidentiality of the records disclosed from this system, consistent with Section 183 of the ESRA (20 U.S.C. 9573).

(2) Research Disclosure. Where NCES determines that an individual or organization is qualified to carry out specific research, NCES may disclose information from the system of records to that researcher solely for the purpose of carrying out that research. NCES will only disclose directly personally identifiable respondent information to a researcher, upon the researcher's direct request, when such disclosure is relevant to the research, as determined by NCES. The researcher must agree to safeguards to protect the security and confidentiality of the records disclosed from this system, consistent with Section 183 of the ESRA (20 U.S.C. 9573). Furthermore, the researcher must agree to a restricted-use data licensing agreement that (among other things) requires: that the disclosed information be used only for statistical purposes; that the disclosed data cannot be redisclosed in identifiable form; that all work products that use the disclosed data must be submitted to NCES for disclosure review prior to sharing the work products with anyone not named in the data licensing agreement; and that NCES may periodically inspect the workspace approved in the restricted-use data licensing agreement.

POLICIES AND PRACTICES FOR STORAGE OF RECORDS:

Records are maintained in a database on NCES's or its contractors' or subcontractors' secure servers and in other secure electronic storage media. Directly personally identifiable respondent information, such as name and contact information, is stored separately from the rest of the data collected in this system. Principal Project Officers, Senior Officials from the Principal Researchers' institution or organization, and System Security Officers must execute IES Restricted-Use Data Security Plans (Security Plans) and follow the data access, storage, and security protocols set forth therein.

POLICIES AND PRACTICES FOR RETRIEVAL OF RECORDS:

Records in the location file are indexed by a unique number assigned to each individual, which can be cross-referenced when needed with the separately stored direct personal identifiers. Records are retrieved by title of survey and the unique number.

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Contractors and subcontractors: Access to the records is limited to authorized personnel who are briefed regarding confidentiality of the data, are required to sign a written statement attesting to their understanding of the significance of the confidentiality requirement and penalties for non-compliance, and have received Department approval to hold a Public Trust position.

All physical access to the NCES, contractor, and subcontractor sites where this system of records is maintained, is controlled and monitored by security personnel who check each individual entering the buildings for his or her employee or visitor badge.

The computer systems employed offer a high degree of resistance to tampering and circumvention. Security systems limit data access to contract staff on a “need to know” basis, and control each individual user's ability to access and alter records within the system.

The NCES, contractor, and subcontractor employees who “maintain” (including collect, maintain, use, or disseminate) data in this system of records must comply with the requirements of the confidentiality standards under Section 183 of the ESRA (20 U.S.C. 9573).

Researchers: The Principal Project Officer(s) on a NCES-restricted-use data license and a Senior Official from the Principal Project Officer(s)' institution or organization must sign a legally binding agreement that transfers the responsibilities and penalties under Section 183 of the ESRA (20 U.S.C. 9573) to the researcher(s) and their institution or organization for a fixed period of time. The Principal Project Officer(s), Senior Official from the Principal Project Officer(s)' institution or organization, and a System Security Officer all must sign a Security Plan that identifies the location where the data will be stored and processed, security arrangements, and authorized data users (if any) beyond the Principal Project Officer(s). Researchers, including all authorized data users besides the Principal Project Officer(s) on each license, must complete training on the confidential nature of the data, and are each required to sign a notarized written statement attesting to their understanding of the significance of the confidentiality requirement and penalties for non-compliance. At the end of the license period, the Principal Project Officer(s) must either return the data to NCES or destroy the data and complete and submit a witnessed certificate of destruction.

RECORD ACCESS PROCEDURES:

If you wish to gain access to a record that exists regarding you in this system of records, contact the system manager at the address listed above. You must provide necessary particulars such as the study in question, your name, current address, the date and place of your birth, and any other identifying information requested by the Department, while processing the request, to distinguish between individuals with the same name. Your request must meet the requirements in 34 CFR 5b.5, including proof of identity.

CONTESTING RECORD PROCEDURES:

If you wish to contest content of a record regarding you in this system of records, contact the system manager. Your request must meet the requirements in 34 CFR 5b.7.

NOTIFICATION PROCEDURES:

If you wish to determine whether a record exists regarding you in this system of records, contact the system manager at the address listed above. You must provide necessary particulars such as the study in question, your name, current address, the date and place of your birth, and any other identifying information requested by the Department, while processing the request, to distinguish between individuals with the same name. Your request must meet the requirements in 34 CFR 5b.5, including proof of identity.

EXEMPTIONS PROMULGATED FOR THE SYSTEM:

None.

HISTORY:

The system of records previously entitled “National Center for Education Statistics (NCES) Longitudinal and Cross-sectional Studies” (18-13-01) was last published in full in the Federal Register at 83 FR 56831 (November 14, 2018).

Appendix to 18-13-01

Additional System Locations:

• ABT Associates, 4550 Montgomery Ave., Suite 800, North, Bethesda, MD 20815-3343.

• Activate Research, 1001 Connecticut Ave. NW, #515, Washington, DC 20036.

• American Institutes for Research (AIR), 1000 and 1025 Thomas Jefferson St. NW, Washington, DC 20007.

• Branch Associates, 1628 John F. Kennedy Blvd., #800, Philadelphia, PA 19103.

• Child Trends, 7315 Wisconsin Ave., #1200w, Bethesda, MD 20814.

• Coleridge Initiative, 4445 Willard Ave., Suite 600, Chevy Chase, MD 20815.

• Educational Testing Service (ETS), 660 Rosedale Rd., Princeton, NJ 08541.

• EurekaFacts, 51 Monroe St., Plaza East 10, Rockville, MD 20850.

• Fors Marsh Group, 1010 N Glebe Rd., #510, Arlington, VA 22201.

• Hager Sharp, 1030 15th St. NW, Suite 600E, Washington, DC 20005.

• Mathematica Policy Research, 1100 First St., #1200, NE, Washington, DC 20002.

• Medicare and Medicaid Resource Information Center (MedRIC), 500 Airport Blvd., Suite 365, Burlingame, CA 94010.

• National Opinion Research Center (NORC), 1155 E 60th St., Chicago, IL 60637; 55 E Monroe, Suite 3000, Chicago, IL 60603; 4350 East-West Hwy., 8th Fl., Bethesda, MD 20814.

• Pearson Inc., 2510 N Dodge St., Iowa City, IA 52245.

• Research Support Services, 906 Ridge Ave., Evanston, IL 60202.

• RTI International, 3040 E Cornwallis Rd., Research Triangle Park, NC 27709-2194.

• Sanametrix, 1120 20th St., South Tower, Suite 200 NW, Washington, DC 20036; 506 Wonderwood Dr., Charlotte, NC 28211; 24574 Spriggs Ct., Hollywood, MD 20636.

• Shugoll Research, 7475 Wisconsin Ave., #200, Bethesda, MD 20814; 1800 Diagonal Rd., #300, Alexandria, VA 22314.

• SRI International, 1100 Wilson Blvd., #2800, Arlington, VA 22209.

• Strategic Analytics Inc., 6503 Shipyard Pl., Falls Church, VA 22043.

• Synergy Enterprises, 8757 Georgia Ave., Silver Spring, MD 20910.

• U.S. Census Bureau, 4600 Silver Hill Rd., Suitland, MD 20746; 1201 E 10th St., Jeffersonville, IN 47190.

• WESTAT, 1600 Research Blvd., Rockville, MD 20850.

[FR Doc. 2023-00768 Filed 1-17-23; 8:45 am]

BILLING CODE 4000-01-P